ENVIRONMENTAL PROTECTION AGENCY

[FRL-7660-4]

Notice of Administrative Order on Consent for Past Response Costs Relating to the Comprehensive Environmental Response, Compensation and Liability Act of 1980, As Amended by the Superfund Amendments and Reauthorization Act

AGENCY: Environmental Protection Agency.

ACTION: Notice; request for public comment.

SUMMARY: In accordance with section 122(i) of the Comprehensive Environmental Response, Compensation, and Liability Act of 1980, as amended (CERCLA), 42 U.S.C. 9622(i), notice is hereby given of a proposed administrative cost recovery settlement concerning the Tyler Refrigeration Pit Superfund Site located in Smyrna, Kent County, Delaware (Proposed Settlement). The Proposed Settlement with the Clark Equipment Company, Inc. (Settling Party) has been approved by the Attorney General, or his designee, of the United States Department of Justice pursuant to section 122(h) of CERCLA, 42 U.S.C. 9622(h). The Proposed Settlement was signed by the Regional Administrator of the United States Environmental Protection Agency (EPA), Region III, on April 15, 2004, pursuant to section 122(h) of CERCLA, 42 U.S.C. 9622(h), and is subject to review by the public pursuant to this notice.

The Proposed Settlement resolves EPA's claim for past response costs under section 107 of CERCLA, 42 U.S.C. 9607, against the Settling Party, and requires the Settling Party to make a payment of $49,429.00 towards EPA's past response costs. This payment represents reimbursement of the remainder of costs EPA incurred in overseeing the Settling Party's performance of a Remedial Investigation at the Site as well as a partial reimbursement of other unreimbursed past costs incurred by EPA in connection with the Site as set forth in the EPA Financial Management System as of November 4, 2003.

For thirty (30) days following the date of publication of this notice, EPA will receive written comments relating to the Proposed Settlement. EPA will consider all comments received and may withdraw or withhold consent to the Proposed Settlement if such comments disclose facts or considerations which indicate the Proposed Settlement is inappropriate, improper, or inadequate. EPA's response to any written comments received will be available for public inspection at the U.S. Environmental Protection Agency, Region III, 1650 Arch Street, Philadelphia, PA 19103-2029.

DATES: Comments must be provided on or before June 14, 2004.

ADDRESSES: The Proposed Settlement is available for public inspection at the U.S. Environmental Protection Agency, Region III, 1650 Arch Street, Philadelphia, PA 19103. A copy of the Proposed Settlement may be obtained from Ms. Suzanne Canning, Legal Program Coordinator (3RC00), U.S. Environmental Protection Agency, 1650 Arch Street, Philadelphia, PA 19103; telephone number (215) 814-2476. Comments should reference the “Tyler Refrigeration Pit Superfund Site” and “EPA Docket No. CERCLA-03-2004-0179CR” and should be forwarded to Ms. Canning at the above address.

FOR FURTHER INFORMATION CONTACT: Yvette Hamilton-Taylor (3RC43), Senior Assistant Regional Counsel, (215) 814-2636, U.S. Environmental Protection Agency, 1650 Arch Street, Philadelphia, Pennsylvania 19103-2029.

Dated: April 30, 2004.
Donald S. Welsh,
Regional Administrator, Region III.

[FR Doc. 04-10892 Filed 5-12-04; 8:45 am]

BILLING CODE 6560-50-P